COMMISSION ON OCEAN POLICY

Public Meeting

AGENCY: Commission on Ocean Policy.

ACTION: Announcement of public meeting.

SUMMARY: The U.S. Commission on Ocean Policy was established pursuant to the Oceans Act of 2000 to make recommendations to the President and Congress for a coordinated and comprehensive national ocean policy. The meeting will be held to consider changes to the Commission's Preliminary Report and approval of a draft final report containing such recommendations.

DATES: The public meeting will be held on Thursday, July 22, 2004, from 8:45 a.m. to 11:30 a.m., ET.

ADDRESSES: The meeting will be held in the Amphitheater of the Ronald Reagan Building and International Trade Center, 1300 Pennsylvania Avenue, NW., Washington, DC 20004.

FOR FURTHER INFORMATION CONTACT: Polin Cohanne, U.S. Commission on Ocean Policy, 1120 20th Street, NW., Suite 200 N, Washington, DC 20036, 202-418-3442, cohanne@oceancommission.gov.

SUPPLEMENTARY INFORMATION: This meeting is being held pursuant to the requirements of Section 3(e)(1) and (2) of the Oceans Act of 2000 (Pub. L. 106-256). The agenda will include opening remarks by the Chairman of the Commission, Admiral James D. Watkins, U.S. Navy (Retired) and other Commissioners, a discussion of changes being proposed to the Commission's Preliminary Report as a result of comments received from Governors and non-gubernatorial stakeholders pursuant to Section 3(g) of Public Law 106-256, a public comment session, the consideration of a motion to approve a draft final report, and such other actions as deemed necessary to submit to Congress and the President a final report of the Commission's findings and recommendations regarding United States ocean policy. A more detailed agenda, including the specific time for the public comment period, will be posted on the Commission's Web site at www.oceancommission.gov closer to the date of the public meeting. Anyone interested in speaking during the public comment period should review the Guidelines for Public Comment at Meetings posted on the Commission website.

Dated: July 6, 2004.
Thomas R. Kitsos,
Executive Director, Commission on Ocean Policy.

[FR Doc. 04-15691 Filed 7-9-04; 8:45 am]

BILLING CODE 6820-WM-U